DEPARTMENT OF COMMERCE

National Oceanic and Atmospheric Administration

50 CFR Part 679

[Docket No. 000211040-0040-01; I.D. 051100D]

Fisheries of the Exclusive Economic Zone off Alaska; Halibut Bycatch Mortality Allowance in the Bering Sea and Aleutian Islands Management Area

AGENCY: National Marine Fisheries Service (NMFS), National Oceanic and Atmospheric Administration (NOAA), Commerce.

ACTION: Reapportionment of Pacific halibut bycatch mortality allowance specified for the nontrawl fishery categories.

SUMMARY: NMFS issues this amendment to the final 2000 harvest specifications that reapportions the 2000 halibut bycatch mortality allowance specified for the Pacific cod hook-and-line fishery category to the other nontrawl fishery category in the Bering Sea and Aleutian Islands management area (BSAI). This action is necessary to allow the harvest of species constrained by the other nontrawl halibut bycatch mortality allowance, in particular Greenland turbot, while not further restricting the hook-and-line Pacific cod fishery. This action is intended to promote the goals and objectives of the Fishery Management Plan for the Groundfish Fishery of the Bering Sea and Aleutians Islands Area (FMP).

DATES: Effective 1200 hrs, Alaska local time (A.l.t.), July 12, 2000, through 2400 hrs, A.l.t., December 31, 2000.

FOR FURTHER INFORMATION CONTACT: Mary Furuness, 907-586-7228.

SUPPLEMENTARY INFORMATION: NMFS manages the groundfish fishery in the BSAI exclusive economic zone according to the FMP prepared by the North Pacific Fishery Management Council under authority of the Magnuson-Stevens Fishery Conservation and Management Act. Regulations governing fishing by U.S. vessels in accordance with the FMP at subpart H of 50 CFR part 600 and 50 CFR part 679.

The BSAI halibut prohibited species catch (PSC) limit for nontrawl gear is an amount of halibut equivalent to 900 metric tons (mt) of halibut mortality (§ 679.21(e)(2)(i)). The apportionment of the nontrawl halibut PSC limit to bycatch allowances for the Pacific cod hook-and-line fishery, other nontrawl fisheries and prohibited species quota reserve was established by the Final 2000 Harvest Specifications of Groundfish for the BSAI (65 FR 8282, February 18, 2000) as 748 mt, 84 mt, and 67 mt, respectively.

At its April 2000 meeting, the Council requested NMFS to amend the 2000 harvest specifications to reapportion 75 mt of the halibut bycatch mortality allowance specified for the Pacific cod hook-and-line fishery to the other nontrawl fishery category. This proposed amendment to the 2000 harvest specifications was published in the Federal Register on May 22, 2000 (65 FR 32070), for public comment and review. No comments were received during the comment period that ended June 6, 2000. In order to provide greater opportunity to harvest the BSAI Greenland turbot total allowable catch (TAC) while not jeopardizing the opportunity to harvest the amount of the Pacific cod TAC allocated to hook-and-line vessels, NMFS increases the halibut bycatch mortality allowance specified for the other nontrawl fishery category by 75 mt and reduces the halibut bycatch mortality allowance specified for the Pacific cod hook-and-line fishery by the same amount.

The halibut bycatch mortality specifications for the 2000 BSAI nontrawl fisheries are listed in Table 7 of the Final 2000 Harvest Specifications for Groundfish (65 FR 8282, February 18, 2000). To accommodate the final action, the 2000 BSAI final harvest specifications are amended by adding the following Table 7A.

Table 7A. 2000 BSAI prohibited species bycatch allowances for the BSAI non-trawl fisheries
Non-trawl fisheries | Halibut mortality (mt) BSAI
Pacific cod-Total | 673
Jan. 1-April 30 | 457
May 1-Sept. 1 | 0
Sept. 1-Dec. 31 | 216
Other non-trawl-Total | 159
May 1-Dec. 31 | 159
Groundfish pot & jig | exempt
Sablefish hook-and-line | exempt

Classification

This action is authorized under 50 CFR 679.21(e)(4) and is exempt from OMB review under E.O. 12866.

NMFS prepared an environmental assessment (EA) and final regulatory flexibility assessment (FRFA) for the 2000 harvest specifications. These documents are available by contacting: Lori Gravel, Alaska Region, NMFS, P.O. Box 21668, Juneau, AK 99802-1668. The reapportionment of the BSAI nontrawl halibut PSC limit is intended to provide fuller opportunity to conduct the fishing activities considered in the EA/FRFA and is fully within the scope of these analyses.

The need to implement this reapportionment promptly to provide greater opportunity to harvest the BSAI Greenland turbot TAC and to prevent the unnecessary economic hardships to fishermen that would result from a fishery closure constitutes good cause under 5 U.S.C. 553(d) to waive the 30-day effective date and make this reapportionment effective July 12, 2000 through 2400 hrs, A.l.t., December 31, 2000.

Authority: 16 U.S.C. 773 et seq., 1801 et seq. and 3631 et seq.

Dated: July 11, 2000.
Bruce C. Morehead,
Acting Director, Office of Sustainable Fisheries, National Marine Fisheries Service.

[FR Doc. 00-18020 Filed 7-12-00; 2:38 pm]

BILLING CODE 3510-22-F